ENVIRONMENTAL PROTECTION AGENCY

[FRL-9306-3]

Notice of Disclosure of Confidential Business Information Obtained Under the Comprehensive Environmental Response, Compensation and Liability Act to EPA Contractor Toeroek Associates Inc., and Their Subcontractor, Science Applications International Corp.

AGENCY: Environmental Protection Agency.

ACTION: Notice, request for comment.

SUMMARY: The U. S. Environmental Protection Agency (“EPA”) hereby complies with the requirements of 40 CFR 2.310(h) for authorization to disclose confidential business information (“CBI”) submitted to EPA Region 9 pursuant to CERCLA to EPA contractor Toeroek Associates Inc., of Lakewood, CO and their subcontractor, Science Applications International Corp., of San Diego, CA.

DATES: Comments may be submitted by May 31, 2011.

ADDRESSES: Comments should be sent to: Keith Olinger, Environmental Protection Agency, Region 9, SFD-7-5, 75 Hawthorne Street, San Francisco, CA 94105, (415) 972-3125.

FOR FURTHER INFORMATION CONTACT: Keith Olinger, Superfund Division, Environmental Protection Agency, Region 9, SFD-7-5, 75 Hawthorne Street, San Francisco, CA 94105, (415) 972-3125.

Notice of Required Determinations, Contract Provisions and Opportunity To Comment: The Comprehensive Environmental Response, Compensation, and Liability Act of 1980 (“CERCLA”), as amended (commonly known as “Superfund”'), requires completion of enforcement activities at Superfund sites in concert with other site events. EPA has entered into a contract with Toeroek Associates Inc., Contract No EP-BPA-11-W-0001, for enforcement support in relation to Region 9 Superfund sites. Enforcement support services will be provided to EPA by Toeroek Associates Inc., and their subcontractor, Science Applications International Corp. EPA has determined that disclosure of CBI to Toeroek Associates Inc., and Science Applications International Corp, and its employees, is necessary in order for the company to carry out its work for EPA under its contract. The information EPA intends to disclose includes submissions made by Potentially Responsible Parties to EPA in accordance with EPA's enforcement activities at Region 9 Superfund sites. The information would be disclosed to the above-named EPA contractors, for any of the following reasons: to assist with document handling, inventory, and indexing; to assist with document review and analysis; to verify completeness; and to provide technical review of submittals. The contract complies with all requirements of 40 CFR 2.310(h)(2). EPA Region 9 will require that each of the contractor's and subcontractor's employees with access to CBI sign a written agreement that he or she: (1) Will use the information only for the purpose of carrying out the work required by the contract, (2) will refrain from disclosing the information to anyone other than EPA without prior written approval of each affected business or of an EPA legal office, and (3) will return to EPA all copies of the information (and any abstracts or extracts therefrom) upon request from the EPA program office, whenever the information is no longer required by the contractor for performance of the work required by the contract or upon completion of the contract.

Dated: May 5, 2011.
Nancy Lindsay,
Acting Director, Superfund Division, U.S. EPA, Region IX.

[FR Doc. 2011-12059 Filed 5-16-11; 8:45 am]

BILLING CODE 6560-50-P